SOCIAL SECURITY ADMINISTRATION

[Docket No SSA-2015-0068]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and an extension of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

Or you may submit your comments online through www.regulations.gov, referencing Docket ID Number [SSA-2015-0068].

I. The information collections below are pending at SSA. SSA will submit them to OMB within 60 days from the date of this notice. To be sure we consider your comments, we must receive them no later than January 19, 2016. Individuals can obtain copies of the collection instruments by writing to the above email address.

1. Privacy and Disclosure of Official Records and Information; Availability of Information and Records to the Public—20 CFR 401.40(b)&(c), 401.55(b), 401.100(a), 402.130, 402.185—0960-0566. SSA established methods for the public to: (1) Access their SSA records; (2) allow SSA to disclose records; (3) correct or amend their SSA records; (4) consent to release of their records; (5) request records under the Freedom of Information Act (FOIA); (6) request SSA waive or reduce fees normally charges for release of FOIA; and (7) request access to an extract of their SSN record. SSA often collects the necessary information for these requests through a written letter, with the exception of the consent for release of records, for which we use Form SSA-3288. The respondents are individuals requesting access to, correction of, or disclosure of SSA records.

Type of Request: Revision of an OMB-approved information collection.

Modality of completion | Number of responses | Frequency of response | Average burden per response (minutes) | Estimated total annual burden (hours)
Access to Records | 10,000 | 1 | 11 | 1,833
Designating a Representative for Disclosure of Records | 3,000 | 1 | 120 | 6,000
Amendment of Records | 100 | 1 | 10 | 17
Consent of Release of Records | 3,000,000 | 1 | 3 | 150,000
FOIA Requests for Records | 15,000 | 1 | 5 | 1,250
Waiver/Reduction of Fees | 400 | 1 | 5 | 33
Respondents who request access to an extract of their SSN record | 10 | 1 | 8.5 | 1
Totals | 3,028,510 |  |  | 159,134

2. International Direct Deposit—31 CFR 210—0960-0686. SSA's International Direct Deposit (IDD) Program allows beneficiaries living abroad to receive their payments via direct deposit to an account at a financial institution outside the United States. SSA uses Form SSA-1199-(Country) to enroll Title II beneficiaries residing abroad in IDD, and to obtain the direct deposit information for foreign accounts. Routing account number information varies slightly for each foreign country, so we use a variation of the Treasury Department's Form SF-1199A for each country. The respondents are Social Security beneficiaries residing abroad who want SSA to deposit their Title II benefit payments directly to a foreign financial institution.

Type of Request: Revision of an OMB-approved information collection.

Modality of completion | Number of respondents | Frequency of response | Average burden per response (minutes) | Estimated total annual burden (hours)
SSA-1199-(Country) | 12,500 | 1 | 5 | 1,042

II. SSA submitted the information collections below to OMB for clearance. Your comments regarding the information collections would be most useful if OMB and SSA receive them 30 days from the date of this publication. To be sure we consider your comments, we must receive them no later than December 21, 2015. Individuals can obtain copies of the OMB clearance packages by writing to OR.Reports.Clearance@ssa.gov.

1. Farm Self-Employment Questionnaire—20 CFR 404.1082(c) & 404.1095—0960-0061. SSA collects the information on Form SSA-7156 on a voluntary and as-needed basis to determine the existence of an agriculture trade or business, which may affect the monthly benefit, or insured status of the applicant. SSA requires the existence of a trade or business before determining if an individual or partnership may have net earnings from self-employment. When an applicant indicates self-employment as a farmer, SSA uses the SSA-7165 to obtain the information we need to determine the existence of an agricultural trade or business, and subsequent covered earnings for Social Security entitlement purposes. As part of the application process, we conduct a personal interview, either face-to-face or via telephone, and document the interview using Form SSA-7165. The respondents are applicants for Social Security benefits, whose entitlement depends on workers having covered earnings from self-employment as farmers.

Type of Request: Revision of an OMB-approved information collection.

Modality of completion | Number of responses | Frequency of response | Average burden per response (minutes) | Estimated total annual burden (hours)
SSA-7156 | 47,500 | 1 | 10 | 7,917

2. Pain Report Child—20 CFR 404.1512 and 416.912—0960-0540. Before SSA can make a disability determination for a child, we require evidence from Supplemental Security Income (SSI) applicants or claimants to prove their disability. Form SSA-3371-BK provides disability interviewers, and SSI applicants or claimants in self-help situations, with a convenient way to record information about claimants' pain or other symptoms. The State disability determination services adjudicators and administrative law judges then use the information from Form SSA-3371-BK to assess the effects of symptoms on function for purposes of determining disability under the Act. The respondents are applicants for, or claimants of, SSI payments.

Type of Request: Revision of an OMB-approved information collection.

Modality of completion | Number of responses | Frequency of response | Average burden per response (minutes) | Estimated total annual burden (hours)
SSA-3371 | 250,000 | 1 | 15 | 62,500

3. Internet Request for Replacement of Forms SSA-1099/SSA-1042S—20 CFR 401.45—0960-0583. Title II beneficiaries use Forms SSA-1099 and SSA-1042S, Social Security Benefit Statement, to determine if their Social Security benefits are taxable, and the amount they need to report to the Internal Revenue Service. In cases where the original forms are unavailable (e.g., lost, stolen, mutilated), an individual may use SSA's automated telephone application to request a replacement SSA-1099 and SSA-1042S. SSA uses the information from the automated telephone requests to verify the identity of the requestor and to provide replacement copies of the forms. The automated telephone options reduce requests to the National 800 Number Network (N8NN) and visits to local Social Security field offices (FO). The respondents are title II beneficiaries who wish to request a replacement SSA-1099 or SSA-1042S via telephone.

Note: This is a correction notice. SSA published this information collection as a revision on September 16, 2015 at 80 FR 55705. Since we are not revising the Privacy Act Statement, this is now an extension of an OMB-approved information collection.

Type of Request: Extension of an OMB-approved information collection.

Modality of completion | Number of responses | Frequency of response | Average burden per response (minutes) | Estimated total annual burden (hours)
Automated Telephone Requestors | 206,424 | 1 | 2 | 6,881
N8NN | 483,021 | 1 | 3 | 24,151
Calls to local FOs | 810,448 | 1 | 3 | 40,522
Other (program service centers) | 78,375 | 1 | 3 | 3,919
Totals | 1,578,268 |  |  | 75,473

Dated: November 16, 2015.
Naomi R. Sipple,
Reports Clearance Officer, Social Security Administration.

[FR Doc. 2015-29570 Filed 11-18-15; 8:45 am]

BILLING CODE 4191-02-P